DEPARTMENT OF DEFENSE

Department of the Navy

Privacy Act of 1974; System of Records

AGENCY: Department of the Navy.

ACTION: Notice to delete systems of records.

SUMMARY: The Department of the Navy is deleting two systems of records notices from its existing inventory of records systems subject to the Privacy Act of 1974, (5 U.S.C. 552a), as amended.

DATES: Effective November 2, 2006.

ADDRESSES: Department of the Navy, PA/FOIA Policy Branch, Chief of Naval Operations, (DNS-36), 2000 Navy Pentagon, Washington, DC 20350-2000.

FOR FURTHER INFORMATION CONTACT: Ms. Doris Lama at (202) 685-6545.

SUPPLEMENTARY INFORMATION: The Department of the Navy systems of records notices subject to the Privacy Act of 1974, (5 U.S.C. 552a), as amended, have been published in the Federal Register and are available from the address above.

The proposed deletions are not within the purview of subsection (r) of the Privacy Act of 1974, (5 U.S.C. 552a), as amended, which requires the submission of a new or altered system report.

Dated: October 26, 2006.
C.R. Choate,
Alternate OSD Federal Register Liaison Officer, Department of Defense.

N04064-1

System Name:

USNA Laundry-Drycleaning Computer Business System (April 12, 1999, 64 FR 17645).

Reason:

The Department of Navy no longer uses these records; therefore, the system of records is being deleted. All records have been destroyed.

N04064-2

System Name:

USNA Retail Customer Claim Record (April 12, 1999, 64 FR 17645).

Reason:

The Department of Navy no longer uses these records; therefore, the system of records is being deleted. All records have been destroyed.

[FR Doc. 06-8999 Filed 11-1-06; 8:45 am]

BILLING CODE 5001-06-M